DEPARTMENT OF TRANSPORTATION

Federal Aviation Administration

14 CFR Part 39

[Docket No. 2000-NM-267-AD; Amendment 39-12344; AD 2001-15-10]

RIN 2120-AA64

Airworthiness Directives; Airbus Model A300 B2, A300 B4, A310, A319, A320, A321, A330, and A340 Series Airplanes; and Model A300 B4-600, A300 B4-600R, and A300 F4-600R (Collectively Called A300-600) Series Airplanes

AGENCY: Federal Aviation Administration, DOT.

ACTION: Final rule.

SUMMARY: This amendment supersedes an existing airworthiness directive (AD), applicable to all Airbus Model A300 B2, A300 B4, A310, A319, A320, A321, A330, and A340 series airplanes; and Model A300 B4-600, A300 B4-600R, and A300 F4-600R (collectively called A300-600) series airplanes. That AD currently requires certain repetitive checks, and replacement of the braking dual distribution valve (BDDV) if necessary. This action requires, for certain airplanes, inspecting and/or replacing the BDDV cover. For all other airplanes, this action provides for optional termination of the repetitive checks. This amendment is prompted by issuance of mandatory continuing airworthiness information by a foreign civil airworthiness authority. The actions specified by this AD are intended to prevent failure of the alternate braking system, which could result in the airplane overrunning the end of the runway during landing.

DATES: Effective September 4, 2001.

The incorporation by reference of certain publications listed in the regulations is approved by the Director of the Federal Register as of September 4, 2001.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) was published in the Federal Register on March 19, 2001 (66 FR 15365). The NPRM proposed to supersede AD 98-15-51, amendment 39-10678 (63 FR 40805, July 31, 1998). AD 98-15-51 is applicable to all Airbus Model A300 B2, A300 B4, A310, A319, A320, A321, A330, and A340 series airplanes; and Model A300 B4-600, A300 B4-600R, and A300 F4-600R (collectively called A300-600) series airplanes. The NPRM proposed to require, for certain airplanes, inspecting and/or replacing the cover of the braking dual distribution valve (BDDV) with an improved cover. For all other airplanes, that action proposed to provide for optional termination of the repetitive checks. That action also proposed to revise the applicability of the existing AD.

Comments

Interested persons have been afforded an opportunity to participate in the making of this amendment. Due consideration has been given to the comments received.

Request To Revise Applicability

One commenter (the manufacturer) requests that the applicability of the proposed AD be revised to remove certain airplanes. The commenter notes that accomplishment of the modification specified by paragraph (d) of the proposed AD would terminate all actions for Model A300, A300-600, A310, A330, and A340 series airplanes. Therefore, the commenter suggests that the proposed AD would not be applicable for those airplanes on which the modification has already been accomplished.

The FAA concurs, for the reasons provided by the commenter. The applicability of the final rule has been revised accordingly.

Request To Revise Identification of Relevant French Airworthiness Directives

This same commenter requests that Note 6 of the proposed AD be revised to identify all related French airworthiness directives.

The FAA concurs. Some of the references were inadvertently omitted from the proposed AD. The final rule has been revised accordingly.

Conclusion

After careful review of the available data, including the comments noted above, the FAA has determined that air safety and the public interest require the adoption of the rule with the changes previously described. The FAA has determined that these changes will neither increase the economic burden on any operator nor increase the scope of the AD.

Cost Impact

Approximately 367 airplanes of U.S. registry will be affected by this AD. Of these, approximately 311 are Model A319, A320, and A321 series airplanes.

The repetitive operational checks that are currently required by AD 98-15-51 and retained in this AD take approximately 1 work hour per airplane to accomplish, at an average labor rate of $60 per work hour. Based on these figures, the cost impact of the repetitive checks is estimated to be $60 per airplane, per check.

The new inspection required for certain Model A319, A320, and A321 series airplanes will take approximately 1 work hour per airplane to accomplish, at an average labor rate of $60 per work hour. Based on these figures, the cost impact of the new inspection is estimated to be $60 per airplane, per inspection cycle.

The new BDDV cover replacement required by this AD for Model A319, A320, and A321 series airplanes will take approximately 3 work hours per airplane to accomplish, at an average labor rate of $60 per work hour. Required parts will be provided by the manufacturer at no cost to operators. Based on these figures, the cost impact on U.S. operators of the replacement is estimated to be $55,980, or $180 per airplane.

The cost impact figures discussed above are based on assumptions that no operator has yet accomplished any of the requirements of this AD, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10678 (63 FR 40805, July 31, 1998), and by adding a new airworthiness directive (AD), amendment 39-12344, to read as follows:

2001-15-10 Airbus Industrie: Amendment 39-12344. Docket 2000z-NM-267-AD. Supersedes AD 98-15-51, Amendment 39-10678.

Applicability: The following airplanes, certificated in any category:

Table 1.—Applicability
Model/series— | Except airplanes modified per—: Airbus modification | Except airplanes modified per—: Reference airbus service bulletin
A300 B2 and A300 B4 | 12012 | A300-32-0429
A300 B4-600, A300 B4-600R, and A300 F4-600R, and A300 F4-600R (collectively called A300-600) | 12012 | A300-32-6075
A310 | 12012 | A310-32-2113
A319, A320, and A321 | 28301 | A320-32-1203
A330 | 47210 | A330-32-3086
A340 | 47210 | A340-32-4122

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (g)(1) of this AD. The request should include an assessment of the effect of the modification, alteration, or repair on the unsafe condition addressed by this AD; and, if the unsafe condition has not been eliminated, the request should include specific proposed actions to address it.

Compliance: Required as indicated, unless accomplished previously.

To prevent failure of the alternate braking system, which could result in the airplane overrunning the end of the runway during landing, accomplish the following:

Repetitive Checks

(a) At the earlier of the times specified in paragraphs (a)(1) and (a)(2) of this AD: Perform an in-flight operational check of the alternate braking system, in accordance with Airbus All Operator Telex (AOT) 32-19, Revision 04, dated April 29, 1999.

(1) For Model A319, A320, and A321 series airplanes: Perform the check at the earlier of the times specified by paragraphs (a)(1)(i) and (a)(1)(ii) of this AD. Thereafter, repeat the operational checks at intervals not to exceed 7 days.

(i) Within 7 days after the most recent check done per AD 98-15-51, amendment 39-10678.

(ii) Within 7 days after the effective date of this AD.

(2) For all other airplanes: Perform the check at the earlier of the times specified in paragraphs (a)(2)(i) and (a)(2)(ii). Thereafter, repeat the operational checks at intervals not to exceed 500 flight hours.

(i) Within 500 flight hours after the most recent operational check done per AD 98-15-51.

(ii) Within 500 flight hours after the effective date of this AD.

(b) If any discrepancy is found during any operational check required by paragraph (a) of this AD: Prior to further flight, replace the brake dual distribution valve (BDDV) with a serviceable part, in accordance with AOT 32-19, Revision 04, dated April 29, 1999.

Note 2: The AOT refers to the following Flight Operation Telexes (FOT) as additional sources of service information: FOT 999.0062, Revision 01, dated August 20, 1998 (for Model A300 series airplanes); FOT 999.0061, Revision 01, dated August 20, 1998 (for Model A300-600 and A310 series airplanes); FOT 999.0059, Revision 02, dated September 2, 1998 (for Model A319, A320, and A321 series airplanes); and FOT 999.0060, Revision 01, dated August 20, 1998 (for Model A330 and A340 series airplanes).

Note 3: Doing the operational checks and replacing the BDDV per earlier versions of Airbus AOT 32-19 (issued prior to Revision 04) are also acceptable for compliance with the applicable requirements of paragraphs (a) and (b) of this AD.

Repetitive Inspections for Certain Airplanes

(c) For Model A319, A320, and A321 series airplanes modified per Airbus Service Bulletin A320-32-1200 (production Modification 27833): Within 6 months after accomplishment of the modification, or within 3 months after the effective date of this AD, whichever occurs later, perform a detailed visual inspection to detect corrosion of the rocker arm mechanism inside the BDDV cover, per Airbus Service Bulletin A320-32-1199, dated January 15, 1999. Repeat the inspection thereafter at least every 6 months until the actions required by paragraph (e) or (f), as applicable, of this AD have been accomplished. If any corrosion is detected during any inspection required by this paragraph: Before further flight, replace the BDDV cover with a new cover per Airbus Service Bulletin A320-32-1199, dated January 15, 1999.

Note 4: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Optional Terminating Action for Operational Checks

(d) Modification of the BDDV, if accomplished, per the applicable service bulletin listed in Table 2 of this AD cancels the operational checks required by paragraph (a) of this AD. Table 2 follows:

Table 2.—Service Bulletins for Optional Terminating Action
For model— | Modification of the BDDV per Airbus service bulletin | Cancels
A300 B2 and B4 series airplanes | A300-32-0429 | The operational checks required by paragraph (a) and B4 of this AD.
A300-600 series airplanes | A300-32-6075 |
A310 series airplanes | A310-32-2113 |
A319, A320, and A320 series airplanes | A320-32-1200 |
A330 series airplanes | A330-32-3086 |
A340 series airplanes | A340-32-4122 |

Required Terminating Action for Repetitive Inspections for Certain Airplanes

(e) Except as provided by paragraph (f) of this AD: For Model A319, A320, and A321 series airplanes, within 12 months after the effective date of this AD, replace the BDDV cover with a new, improved cover, per Airbus Service Bulletin A320-32-1203, dated June 4, 1999. This replacement terminates the requirements of this AD for these airplanes.

(f) For Model A319, A320, and A321 series airplanes modified per Airbus Service Bulletin A320-32-1200 within the compliance time specified by paragraph (e) of this AD: Do the replacement required by paragraph (e) of this AD within 15 months after doing the modification specified by Airbus Service Bulletin A320-32-1200, or within 2 months after the effective date of this AD, whichever occurs later. This replacement terminates the requirements of this AD for these airplanes.

Alternative Methods of Compliance

(g)(1) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

(2) Alternative methods of compliance, approved previously in accordance with AD 98-15-51, amendment 39-10678, are approved as alternative methods of compliance with the applicable requirements of this AD.

Note 5: Information concerning the existence of approved alternative methods of compliance with this AD, if any, may be obtained from the International Branch, ANM-116.

Special Flight Permits

(h) Special flight permits may be issued in accordance with §§ 21.197 and 21.199 of the Federal Aviation Regulations (14 CFR 21.197 and 21.199) to operate the airplane to a location where the requirements of this AD can be accomplished.

Incorporation by Reference

(i) The actions shall be done in accordance with Airbus All Operators Telex 32-19, Revision 04, dated April 29, 1999; Airbus Service Bulletin A320-32-1199, dated January 15, 1999; and Airbus Service Bulletin A320-32-1203, dated June 4, 1999; as applicable. This incorporation by reference is approved by the Director of the Federal Register, in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, DC.

Note 6: The subject of this AD is addressed in French airworthiness directives 1998-263-255(B) R3, dated December 29, 1999; 2000-258-146(B), dated June 14, 2000; 1998-264-075(B) R4, dated October 6, 1999; and 1998-265-093(B) R4, dated October 6, 1999.

Effective Date

(j) This amendment becomes effective on September 4, 2001.

Issued in Renton, Washington, on July 18, 2001.
Donald L. Riggin,
Acting Manager, Transport Airplane Directorate, Aircraft Certification Service.

[FR Doc. 01-18434 Filed 7-30-01; 8:45 am]

BILLING CODE 4910-13-U